FEDERAL MARITIME COMMISSION

Notice of Intent To Terminate

The Commission gives notice that it intends to terminate the following agreement pursuant to 46 CFR 501.17(h)(2) thirty days from publication of this notice.

Agreement No.: 011890.

Agreement Name: SCM Lines Ltd./Seaboard Marine Ltd. Space Charter Agreement.

Reason for termination: SCM Lines Ltd. no longer registered Vessel Operating Common Carrier.

Location: https://www2.fmc.gov/FMC.Agreements.Web/Public/AgreementHistory/495.

Dated: September 23, 2022.
William Cody,
Secretary.

[FR Doc. 2022-21027 Filed 9-27-22; 8:45 am]

BILLING CODE 6730-02-P